DEPARTMENT OF COMMERCE

International Trade Administration

[A-122-869, A-570-150, A-428-851, A-580-915, A-421-816, A-583-870, A-489-848, A-412-827]

Tin Mill Products From Canada, the People's Republic of China, Germany, the Netherlands, the Republic of Korea, Taiwan, the Republic of Turkey, and the United Kingdom: Initiation of Less-Than-Fair-Value Investigations

AGENCY: Enforcement and Compliance, International Trade Administration, Department of Commerce.

DATES: Applicable February 7, 2023.

FOR FURTHER INFORMATION CONTACT: Yang Jin Chun (Canada), Emily Halle or Samuel Frost (the People's Republic of China (China)), George McMahon or Carolyn Adie (Germany); Jacob Saude (the Republic of Korea (Korea)), Brittany Bauer (the Netherlands), Elfi Blum (Taiwan), Alice Maldonado or Ann Marie Caton (the Republic of Turkey (Turkey)), and Charles DeFilippo (the United Kingdom), AD/CVD Operations, Offices II, V, VI, and VII, Enforcement and Compliance, International Trade Administration, U.S. Department of Commerce, 1401 Constitution Avenue NW, Washington, DC 20230; telephone: (202) 482-5760, (202) 482-0176 or (202) 482-8180, (202) 482-1167 or (202) 482-6250, (202) 482-0981, (202) 482-3860, (202) 482-0197, (202) 482-4682 or (202) 482-2607, and (202) 482-3797, respectively.

SUPPLEMENTARY INFORMATION:

The Petitions

On January 18, 2023, the U.S. Department of Commerce (Commerce) received antidumping duty (AD) petitions concerning imports of tin mill products from Canada, China, Germany, the Netherlands, Korea, Taiwan, Turkey, and the United Kingdom, filed in proper form on behalf of Cleveland-Cliffs Inc. and the United Steel, Paper and Forestry, Rubber, Manufacturing, Energy, Allied Industrial and Service Workers International Union (the petitioners), a domestic producer of tin mill products and a certified union, which represents the workers engaged in the production of tin mill products in the United States.¹ These AD petitions were accompanied by a countervailing duty (CVD) petition concerning imports of tin mill products from China.²

¹ See Petitioners' Letter, “Petitions for the Imposition of Antidumping and Countervailing Duties on Imports of Certain Tin Mill Products from Canada, China, Germany, Netherlands, South Korea, Taiwan, Turkey, and the United Kingdom,” dated January 18, 2023 (Petitions).

² Id.

On January 23 and 31, and February 6, 2023, Commerce requested supplemental information pertaining to certain aspects of the Petitions.³ The petitioners filed timely responses to these requests on January 27, 2023, and February 1, 2023.⁴

³ See Commerce's Letter, “Petitions for the Imposition of Antidumping and Countervailing Duties on Imports of Tin Mill Products from Canada, the People's Republic of China, Germany, the Netherlands, the Republic of Korea, Taiwan, the Republic of Turkey, and the United Kingdom: Supplemental Questions,” dated January 23, 2023 (General Issues Supplemental Questionnaire); see also Country-Specific Supplemental Questionnaires: Canada Supplemental, China Supplemental, Germany Supplemental, Netherlands Supplemental, Korea Supplemental, Taiwan Supplemental, Turkey Supplemental, and United Kingdom Supplemental, dated January 23, 2023; Memorandum, “Phone Call with Counsel to the Petitioners,” dated January 31, 2023; and Memorandum, “Phone Call with Counsel to the Petitioners,” dated February 7, 2023 (Scope Memorandum).

⁴ See Petitioners' Country-Specific Supplemental Responses, dated January 27, 2023; see also Petitioner's Letters, “Tin Mill Products from Canada, China, Germany, Netherlands, South Korea, Taiwan, Turkey, and the United Kingdom/Petitioners' Response to Supplemental Volume I Questionnaire,” dated January 27, 2023 (General Issues Supplement); and “Tin Mill Products from Canada, China, Germany, Netherlands, South Korea, Taiwan, Turkey, and the United Kingdom/Petitioners' Response to Second Supplemental Questionnaire,” dated February 1, 2023 (Second General Issues Supplement).

In accordance with section 732(b) of the Tariff Act of 1930, as amended (the Act), the petitioners allege that imports of tin mill products from Canada, China, Germany, the Netherlands, Korea, Taiwan, Turkey, and the United Kingdom are being, or are likely to be, sold in the United States at less than fair value (LTFV) within the meaning of section 731 of the Act, and that imports of such products are materially injuring, or threatening material injury to, the tin mill products industry in the United States. Consistent with section 732(b)(1) of the Act, the Petitions are accompanied by information reasonably available to the petitioners supporting their allegations.

Commerce finds that the petitioners filed the Petition on behalf of the domestic industry, because the petitioners are interested parties, as defined in sections 771(9)(C) and (D) of the Act.⁵ Commerce also finds that the petitioners demonstrated sufficient industry support for the initiation of the requested AD investigations.⁶

⁵ See Petitions at Volume I (pages 1-4).

⁶ See infra, at section on “Determination of Industry Support for the Petitions.”

Periods of Investigations

Because the Petitions were filed on January 18, 2023, pursuant to 19 CFR 351.204(b)(1), the period of investigation (POI) for the Canada, Germany, Netherlands, Korea, Taiwan, Turkey, and United Kingdom AD investigations is January 1, 2022, through December 31, 2022. Because China is a non-market economy (NME) country, pursuant to 19 CFR 351.204(b)(1), the POI for the China AD investigation is July 1, 2022, through December 31, 2022.

Scope of the Investigations

The products covered by these investigations are tin mill products from Canada, China, Germany, Korea, the Netherlands, Taiwan, Turkey, and the United Kingdom. For a full description of the scope of these investigations, see the appendix to this notice.

Comments on the Scope of the Investigations

On January 23 and 31, and February 6, 2023, Commerce requested further information and clarification from the petitioners regarding the proposed scope to ensure that the scope language in the Petitions is an accurate reflection of the products for which the domestic industry is seeking relief.⁷ On January 27, and February 1 and 6, 2023, the petitioners revised the scope.⁸ The description of the merchandise covered by these investigations, as described in the appendix to this notice, reflects these clarifications.

⁷ See General Issues Supplemental Questionnaire at 3-4; see also Scope Memorandum.

⁸ See First General Issues Supplement at 2-3 and Exhibit I-S3; see also Second General Issues Supplement at 2 and Exhibit I-2S2; and Scope Memorandum.

As discussed in the Preamble to Commerce's regulations, we are setting aside a period of time for interested parties to raise issues regarding product coverage (i.e., scope).⁹ Commerce will consider all comments received from interested parties and, if necessary, will consult with interested parties prior to the issuance of the preliminary determinations. If scope comments include factual information,¹⁰ all such factual information should be limited to public information. To facilitate preparation of its questionnaires, Commerce requests that all interested parties submit such comments by 5:00 p.m. Eastern Time (ET) on February 27, 2023, which is 20 calendar days from the signature date of this notice. Any rebuttal comments, which may include factual information, must be filed by 5:00 p.m. ET on March 9, 2023, which is ten calendar days from the initial comment deadline.

⁹ See Antidumping Duties; Countervailing Duties, Final Rule, 62 FR 27296, 27323 (May 19, 1997) (Preamble).

¹⁰ See 19 CFR 351.102(b)(21) (defining “factual information”).

Commerce requests that any factual information that parties consider relevant to the scope of the investigations be submitted during that period. However, if a party subsequently finds that additional factual information pertaining to the scope of the investigations may be relevant, the party may contact Commerce and request permission to submit the additional information. All such submissions must be filed simultaneously on the records of the concurrent AD and CVD investigations.

Filing Requirements

All submissions to Commerce must be filed electronically using Enforcement and Compliance's Antidumping Duty and Countervailing Duty Centralized Electronic Service System (ACCESS), unless an exception applies.¹¹ An electronically-filed document must be received successfully in its entirety by the time and date it is due.¹²

¹¹ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook_on_Electronic_Filing_Procedures.pdf.

¹² See 19 CFR 351.303(b)(1).

Comments on Product Characteristics

Commerce is providing interested parties an opportunity to comment on the appropriate physical characteristics of tin mill products to be reported in response to Commerce's AD questionnaires. This information will be used to identify the key physical characteristics of the subject merchandise in order to report the relevant factors of production (FOP) or costs of production (COP) accurately, as well as to develop appropriate product comparison criteria where appropriate.

Subsequent to the publication of this notice, Commerce intends to release a proposed list of physical characteristics and product-comparison criteria, and interested parties may provide any information or comments that they feel are relevant to the development of an accurate list of physical characteristics. Specifically, they may provide comments as to which characteristics are appropriate to use as: (1) general product characteristics; and (2) product comparison criteria. We note that it is not always appropriate to use all product characteristics as product comparison criteria. We base product comparison criteria on meaningful commercial differences among products. In other words, although there may be some physical product characteristics utilized by manufacturers to describe tin mill products, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, Commerce intends to establish a deadline for relevant comments and submissions at the time it releases the proposed list of physical characteristics and product-comparison criteria. All comments and submissions to Commerce must be filed electronically using ACCESS, as explained above, on the record of each of the AD investigations.

Determination of Industry Support for the Petitions

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the Act directs Commerce to look to producers and workers who produce the domestic like product. The U.S. International Trade Commission (ITC), which is responsible for determining whether “the domestic industry” has been injured, must also determine what constitutes a domestic like product in order to define the industry. While both Commerce and the ITC must apply the same statutory definition regarding the domestic like product,¹³ they do so for different purposes and pursuant to a separate and distinct authority. In addition, Commerce's determination is subject to limitations of time and information. Although this may result in different definitions of the like product, such differences do not render the decision of either agency contrary to law.¹⁴

¹³ See section 771(10) of the Act.

¹⁴ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹⁵ Based on our analysis of the information submitted on the record, we have determined that tin mill products, as defined in the scope, constitute a single domestic like product, and we have analyzed industry support in terms of that domestic like product.¹⁶

¹⁵ See Petitions at Volume I (pages 20 and 22-25); see also First General Issues Supplement at 1 and Exhibit I-S1 (containing Tin- and Chromium-Coated Steel Sheet from Japan, Inv. Nos. 731-TA-860 (Preliminary), USITC Pub. 3264 (December 1999), at 5; and Tin- and Chromium-Coated Steel Sheet from Japan, Inv. No. 731-TA-860 (Third Review), USITC Pub. 4795 (June 2018) (Tin Mill Products Third Review), at 6); and Second General Issues Supplement at 1 and Exhibit I-2S1 ((containing Tin- and Chromium-Coated Steel Sheet from Japan, Inv. No. 731-TA-860 (Final), USITC Pub. 3337 (August 2000), at 5)).

¹⁶ For a discussion of the domestic like product analysis as applied to these cases and information regarding industry support, see, individually, Antidumping Duty Investigation Initiation Checklists, “Tin Mill Products from Canada, the People's Republic of China, Germany, the Netherlands, the Republic of Korea, Taiwan, the Republic of Turkey, and the United Kingdom,” dated concurrently with this notice (Country-Specific AD Initiation Checklists), at Attachment II (Analysis of Industry Support for the Antidumping and Countervailing Duty Petitions Covering Tin Mill Products from Canada, the People's Republic of China, Germany, the Netherlands, the Republic of Korea, Taiwan, the Republic of Turkey and the United Kingdom).

In determining whether the petitioners have standing under section 732(c)(4)(A) of the Act, we considered the industry support data contained in the Petitions with reference to the domestic like product as defined in the “Scope of the Investigations,” in the appendix to this notice. To establish industry support, the petitioners provided Cleveland-Cliffs' production of tin mill products in 2022 and estimated the 2022 production of the remaining U.S. producers of tin mill products.¹⁷ The petitioners stated that the USW represents workers accounting for all U.S. production of tin mill products, and as such, the supporters of the Petitions account for all U.S. production of tin mill products.¹⁸ We relied on data provided by the petitioners for purposes of measuring industry support.¹⁹

¹⁷ See Petitions at Volume I (pages 5-6 and Exhibit I-5); see also First General Issues Supplement at 3-5 and Exhibit I-S4; Second General Issues Supplement at 2 and Exhibit I-2S3; and Petitioners' Letter, “Tin Mill products from Canada, China, Germany, Netherlands, South Korea, Taiwan, Turkey, and the United Kingdom/Petitioners' Comments Regarding Industry Support,” dated February 2, 2023 (Petitioners' Letter).

¹⁸ See Petitions at Volume I (pages 2-6 and Exhibits I-5 and I-10 through I-12); see also First General Issues Supplement at 4-5.

¹⁹ See Petitions at Volume I (pages 2-6 and Exhibits I-5 and I-10 through I-12); see also First General Issues Supplement at 1, 3-5 and Exhibits I-S1 (containing Tin Mill Products Third Review) and I-S4; Second General Issues Supplement at 2 and Exhibit I-2S3; and Petitioners Letter. For further discussion, see Attachment II of the Country-Specific AD Initiation Checklists.

On January 31, 2023, we received comments on industry support from United States Steel Corporation (U.S. Steel), a U.S. producer of tin mill products.²⁰ On February 2, 2023, the petitioners responded to the comments from U.S. Steel.²¹

²⁰ See U.S. Steel's Letter, “Tin Mill Products from Canada, the People's Republic of China, Germany, the Netherlands, the Republic of Korea, Taiwan, the Republic of Turkey, and the United Kingdom: Comments on Industry Support,” dated January 31, 2023 (U.S. Steel Letter).

²¹ See Petitioners Letter.

Our review of the data provided in the Petitions, the First General Issues Supplement, the Second General Issues Supplement, the Petitioners Letter, and other information readily available to Commerce indicates that the petitioners have established industry support for the Petitions.²² First, the Petitions established support from domestic producers (or workers) accounting for more than 50 percent of the total production of the domestic like product and, as such, Commerce is not required to take further action in order to evaluate industry support (e.g., polling).²³ Second, the domestic producers (or workers) have met the statutory criteria for industry support under section 732(c)(4)(A)(i) of the Act because the domestic producers (or workers) who support the Petitions account for at least 25 percent of the total production of the domestic like product.²⁴ Finally, the domestic producers (or workers) have met the statutory criteria for industry support under section 732(c)(4)(A)(ii) of the Act because the domestic producers (or workers) who support the Petitions account for more than 50 percent of the production of the domestic like product produced by that portion of the industry expressing support for, or opposition to, the Petitions.²⁵ Accordingly, Commerce determines that the Petitions were filed on behalf of the domestic industry within the meaning of section 732(b)(1) of the Act.²⁶

²² See Petitions at Volume I (pages 4-6 and Exhibits I-5 and I-10 through I-12); see also First General Issues Supplement at 3-5 and Exhibits I-S1 (containing Tin Mill Products Third Review) and I-S4; Second General Issues Supplement at 2 and Exhibit I-2S3; U.S. Steel Letter; and Petitioners Letter. For further discussion, see Attachment II of the Country-Specific AD Initiation Checklists.

²³ See Attachment II of the Country-Specific AD Initiation Checklists; see also section 732(c)(4)(D) of the Act.

²⁴ See Attachment II of the Country-Specific AD Initiation Checklists.

²⁵ Id.

²⁶ Id.

Allegations and Evidence of Material Injury and Causation

The petitioners allege that the U.S. industry producing the domestic like product is being materially injured, or is threatened with material injury, by reason of the imports of the subject merchandise sold at LTFV. In addition, the petitioners allege that subject imports exceed the negligibility threshold provided for under section 771(24)(A) of the Act.²⁷

²⁷ See Petitions at Volume I (pages 28-29 and Exhibit I-26).

The petitioners contend that the industry's injured condition is illustrated by the significant volume of subject imports; declining market share; underselling and price depression and/or suppression; lost sales and revenues; and adverse impact on the domestic industry's employment variables and profitability.²⁸ We assessed the allegations and supporting evidence regarding material injury, threat of material injury, causation, as well as negligibility, and we have determined that these allegations are properly supported by adequate evidence and meet the statutory requirements for initiation.²⁹

²⁸ Id. at 25-48 and Exhibits I-3, I-5, I-9, I-19, and I-25 through I-28; see also First General Issues Supplement at 1, and 5-9 and Exhibits I-S1 (containing Tin Mill Products Third Review), I-S5, and I-S8.

²⁹ See Country-Specific AD Initiation Checklists at Attachment III, Analysis of Allegations and Evidence of Material Injury and Causation for the Antidumping and Countervailing Duty Petitions Covering Tin Mill Products from Canada, the People's Republic of China, Germany, the Netherlands, the Republic of Korea, Taiwan, the Republic of Turkey, and the United Kingdom (Attachment III).

Allegations of Sales at LTFV

The following is a description of the allegations of sales at LTFV upon which Commerce based its decision to initiate AD investigations of imports of tin mill products from Canada, China, Germany, Korea, the Netherlands, Taiwan, Turkey, and the United Kingdom. The sources of data for the deductions and adjustments relating to U.S. price and normal value (NV) are discussed in greater detail in the Country-Specific AD Initiation Checklists.

U.S. Price

For Canada, China, Germany, the Netherlands, Taiwan, Turkey, and the United Kingdom, the petitioners based export price (EP) on the POI average unit values (AUVs) derived from official U.S. import data for imports of tin mill products produced in and exported from each country. For the Netherlands, Taiwan, and Turkey, the petitioners also based EP on month- and port-specific AUVs derived from official import data and tied to ship manifest data obtained from Datamyne. For Korea, the petitioners based EP on month- and port-specific AUVs derived from official import data and tied to ship manifest data obtained from Datamyne alone. The petitioners made certain adjustments to U.S. price to calculate a net ex-factory U.S. price, where applicable.³⁰

³⁰ See Country-Specific AD Initiation Checklists for Canada, Germany, Korea, the Netherlands, Taiwan, Turkey, and the United Kingdom.

Normal Value ³¹

³¹ In accordance with section 773(b)(2) of the Act, for these investigations, Commerce will request information necessary to calculate the constructed value and cost of production (COP) to determine whether there are reasonable grounds to believe or suspect that sales of the foreign like product have been made at prices that represent less than the COP of the product.

For Canada, Germany, Korea, the Netherlands, Taiwan, Turkey, and the United Kingdom, the petitioners were unable to obtain home market prices for tin mill products produced and sold in the subject countries. Therefore, for these countries, the petitioners based NV on AUVs of publicly-available export data for exports of tin mill products from the subject countries to third countries.³² For each of the countries, the petitioners provided information showing that the AUVs were below the COP and, therefore, the petitioners calculated NV based on constructed value (CV).³³ For further discussion of CV, see the section “Normal Value Based on Constructed Value.”

³² See Country-Specific AD Initiation Checklists for Canada, Germany, Korea, the Netherlands, Taiwan, Turkey, and the United Kingdom.

³³ Id.

Commerce considers China to be an NME country.³⁴ In accordance with section 771(18)(C)(i) of the Act, any determination that a foreign country is an NME country shall remain in effect until revoked by Commerce. Therefore, we continue to treat China as an NME country for purposes of the initiation of this investigation. Accordingly, NV in China is appropriately based on FOPs valued in surrogate market economy countries, in accordance with section 773(c) of the Act.

³⁴ See Antidumping Duty Investigation of Certain Aluminum Foil from the People's Republic of China: Affirmative Preliminary Determination of Sales at Less-Than-Fair Value and Postponement of Final Determination, 82 FR 50858, 50861 (November 2, 2017), and accompanying Preliminary Decision Memorandum, unchanged in Certain Aluminum Foil from the People's Republic of China: Final Determination of Sales at Less Than Fair Value, 83 FR 9282 (March 5, 2018).

The petitioners claim that Turkey is an appropriate surrogate country for China because Turkey is a market economy country that is at a level of economic development comparable to that of China and is a significant producer of identical merchandise.³⁵ The petitioners provided publicly-available information from Turkey to value all FOPs.³⁶ Based on the information provided by the petitioners, we determine that it is appropriate to use Turkey as a surrogate country for initiation purposes.

³⁵ See Country-Specific AD Initiation Checklists for China.

³⁶ Id.

Interested parties will have the opportunity to submit comments regarding surrogate country selection and, pursuant to 19 CFR 351.301(c)(3)(i), will be provided an opportunity to submit publicly available information to value FOPs within 30 days before the scheduled date of the preliminary determination.

Factors of Production

Because information regarding the volume of inputs consumed by Chinese producers/exporters was not reasonably available, the petitioners used product-specific consumption rates from a U.S. producer of tin mill products as a surrogate to value Chinese manufacturers' FOPs.³⁷ Additionally, the petitioners calculated factory overhead; selling, general and administrative (SG&A) expenses; and profit based on the experience of a Turkish producer of identical merchandise.³⁸

³⁷ Id.

³⁸ Id.

Normal Value Based on Constructed Value

As noted above, the petitioners demonstrated that the third country export AUVs for Canada, Germany, Korea, the Netherlands, Taiwan, Turkey, and the United Kingdom were below COP. Accordingly, the petitioners based NV on CV.³⁹ Pursuant to section 773(e) of the Act, the petitioners calculated CV as the sum of the cost of manufacturing, SG&A expenses, financial expenses, and profit.⁴⁰

³⁹ See Country-Specific AD Initiation Checklists for Canada, Germany, Korea, the Netherlands, Taiwan, Turkey, and the United Kingdom for details of the calculations.

⁴⁰ Id.

In calculating the cost of manufacturing, the petitioners relied on the production experience and input consumption rates of a U.S. producer of tin mill products, valued using publicly-available information applicable to each respective country.⁴¹ In calculating SG&A expenses, financial expenses, and profit ratios (where applicable), the petitioners relied on the fiscal year 2021-2022 financial statements of a producer of identical or comparable merchandise domiciled in each respective subject country, where appropriate.⁴²

⁴¹ Id.

⁴² Id.

Fair Value Comparisons

Based on the data provided by the petitioners, there is reason to believe that imports of tin mill products from Canada, China, Germany, Korea, the Netherlands, Taiwan, Turkey, and the United Kingdom, are being, or are likely to be, sold in the United States at LTFV. Based on comparisons of EP to NV in accordance with sections 772 and 773 of the Act, the estimated dumping margins for tin mill products for each of the countries covered by this initiation are as follows: (1) Canada—79.59 percent; (2) China—122.52 percent; (3) Germany—70.15 percent; (4) Korea—13.28 to 110.50 percent; (5) the Netherlands—125.10 to 296.04 percent; (6) Taiwan—46.76 to 59.61 percent; (7) Turkey—87.73 to 97.21 percent; and (8) the United Kingdom—111.92 percent.⁴³

⁴³ See Country-Specific AD Initiation Checklists for details of the calculations.

Initiation of LTFV Investigations

Based upon the examination of the Petitions and supplemental responses, we find that they meet the requirements of section 732 of the Act. Therefore, we are initiating AD investigations to determine whether imports of tin mill products from Canada, China, Germany, Korea, the Netherlands, Taiwan, Turkey, and the United Kingdom are being, or are likely to be, sold in the United States at LTFV. In accordance with section 733(b)(1)(A) of the Act and 19 CFR 351.205(b)(1), unless postponed, we will make our preliminary determinations no later than 140 days after the date of this initiation.

Respondent Selection

Canada, Germany, the Netherlands, Taiwan, and the United Kingdom

In the Petitions, the petitioners identified one company in Canada as a producer/exporter of tin mill products (i.e., ArcelorMittal Dofasco G.P.), one company in Germany as a producer/exporter of tin mill products (i.e., ThyssenKrupp Rasselstein GmbH), two companies in the Netherlands as producers/exporters of tin mill products (i.e., Tata Steel Netherlands and Tata Steel Ijmuiden, B.V.), one company in Taiwan as a producer/exporter of tin mill products (i.e., Ton Yi Industrial Corporation), and one company in the United Kingdom as a producer/exporter of tin mill products (i.e., Tata Steel UK Limited), and provided independent third-party information as support.⁴⁴ We currently know of no additional producers/exporters of tin mill products from Canada, Germany, the Netherlands, Taiwan, and the United Kingdom.

⁴⁴ See Petitions at Volume I (page 21 and Exhibit I-21); see also Petitions at Volume II (Exhibit II-3); Petitions at Volume IV (Exhibit IV-4); Petitions at Volume V (Exhibit V-3); and First General Issues Supplement at Exhibit I-S2.

Accordingly, Commerce intends to individually examine all known producers/exporters in the investigations from these countries (i.e., the companies cited above). We invite interested parties to comment on this issue. Such comments may include factual information within the meaning of 19 CFR 351.102(b)(21). Parties wishing to comment must do so within three business days of the publication of this notice in the Federal Register. Comments must be filed electronically using ACCESS. An electronically filed document must be received successfully in its entirety via ACCESS by 5:00 p.m. ET on the specified deadline. Because we intend to examine all known producers/exporters in Canada, Germany, the Netherlands, Taiwan, and the United Kingdom, if no comments are received or if comments received further support the existence of these sole producers/exporters in Canada, Germany, the Netherlands, Taiwan, and the United Kingdom, respectively, we do not intend to conduct respondent selection and will proceed to issuing the initial AD questionnaires to the companies identified. However, if comments are received which create a need for a respondent selection process, we intend to finalize our decisions regarding respondent selection within 20 days of publication of this notice.

Korea and Turkey

In the Petitions, the petitioners identified three companies in Korea as producers/exporters of tin mill products and three companies in Turkey as producers/exporters of tin mill products.⁴⁵ Following standard practice in AD investigations involving market economy countries, in the event Commerce determines that the number of exporters or producers is large such that Commerce cannot individually examine each company based on its resources, where appropriate, Commerce intends to select mandatory respondents in these cases based on U.S. Customs and Border Protection (CBP) data for U.S. imports under the appropriate Harmonized Tariff Schedule of the United States subheadings listed in the “Scope of the Investigation,” in the appendix.

⁴⁵ See Petitions at Volume I (Exhibit I-21); see also First General Issues Supplement at 1-2 and Exhibits I-S2, S-6, and S-7; and Second General Issues Supplement at 1-2.

On February 2, 2023, Commerce released CBP data on imports of tin mill products from Korea and Turkey under administrative protective order (APO) to all parties with access to information protected by APO and indicated that interested parties wishing to comment on CBP data must do so within three business days of the publication date of the notice of initiation of these investigations.⁴⁶ Comments must be filed electronically using ACCESS. An electronically-filed document must be received successfully in its entirety via ACCESS by 5:00 p.m. ET on the specified deadline. Commerce will not accept rebuttal comments regarding the CBP data or respondent selection.

⁴⁶ See Memoranda, “Antidumping Duty Petition on Imports of Tin Mill Products from the Republic of Korea: Release of U.S. Customs and Border Protection Data,” dated February 2, 2023; and “Antidumping Duty Petition on Imports of Tin Mill Products from the Republic of Turkey: Release of U.S. Customs and Border Protection Data,” dated February 2, 2023.

Interested parties must submit applications for disclosure under APO in accordance with 19 CFR 351.305(b). Instructions for filing such applications may be found on Commerce's website at https://enforcement.trade.gov/apo.

China

In the Petitions, the petitioners named 19 companies in China as producers and/or exporters of tin mill products.⁴⁷ In accordance with our standard practice for respondent selection in AD investigations involving NME countries, Commerce selects respondents based on quantity and value (Q&V) questionnaires in cases where it has determined that the number of companies is large and it cannot individually examine each company based upon its resources. Therefore, considering the number of producers and/or exporters identified in the Petitions, Commerce will solicit Q&V information that can serve as a basis for selecting exporters for individual examination in the event that Commerce decides to limit the number of respondents individually examined pursuant to section 777A(c)(2) of the Act. Because there are 19 Chinese producers and/or exporters identified in the Petitions, Commerce has determined that it will issue Q&V questionnaires to each potential respondent for which the petitioners have provided a complete address.

⁴⁷ See Petitions at Volume I (Exhibit I-21).

In addition, Commerce will post the Q&V questionnaires along with filing instructions on Commerce's website at https://www.trade.gov/ec-adcvd-case-announcements. Producers/exporters of tin mill products from China that do not receive Q&V questionnaires may still submit a response to the Q&V questionnaire and can obtain a copy of the Q&V questionnaire from Commerce's website. Additional information on Q&V questionnaires can be found on Commerce's website at https://enforcement.trade.gov/questionnaires/questionnaires-ad.html. In accordance with the standard practice for respondent selection in AD cases involving NME countries, in the event Commerce decides to limit the number of respondents individually investigated, Commerce intends to base respondent selection on the responses to the Q&V questionnaire that it receives.

Responses to the Q&V questionnaire must be submitted by the relevant Chinese producers/exporters no later than 5:00 p.m. ET on February 21, 2023, which is two weeks from the signature date of this notice. All Q&V questionnaire responses must be filed electronically via ACCESS. An electronically-filed document must be received successfully, in its entirety, by ACCESS no later than 5:00 p.m. ET on the deadline noted above.

Interested parties must submit applications for disclosure under APO in accordance with 19 CFR 351.305(b). Instructions for filing such applications may be found on Commerce's website at https://enforcement.trade.gov/apo. Commerce intends to make its decisions regarding respondent selection within 20 days of publication of this notice.

Separate Rates

In order to obtain separate rate status in an NME investigation, exporters and producers must submit a separate rate application.⁴⁸ The specific requirements for submitting a separate rate application in an NME investigation are outlined in detail in the application itself, which is available on Commerce's website at https://enforcement.trade.gov/nme/nme-sep-rate.html. The separate rate application will be due 30 days after publication of this initiation notice.⁴⁹ Exporters and producers who submit a separate rate application and have been selected as mandatory respondents will be eligible for consideration for separate rate status only if they respond to all parts of Commerce's AD questionnaire as mandatory respondents. Commerce requires that companies from China submit a response both to the Q&V questionnaire and to the separate rate application by the respective deadlines in order to receive consideration for separate rate status. Companies not filing a timely Q&V questionnaire response will not receive separate rate consideration.

⁴⁸ See Enforcement and Compliance's Policy Bulletin 05.1, regarding, “Separate-Rates Practice and Application of Combination Rates in Antidumping Investigation involving NME Countries,” (April 5, 2005) (Policy Bulletin 05.1), available at https://enforcement.trade.gov/policy/bull05-1.pdf.

⁴⁹ Although in past investigations this deadline was 60 days, consistent with 19 CFR 351.301(a), which states that “the Secretary may request any person to submit factual information at any time during a proceeding,” this deadline is now 30 days.

Use of Combination Rates

Commerce will calculate combination rates for respondents that are eligible for a separate rate in an NME investigation. The Separate Rates and Combination Rates Bulletin states:

{w}hile continuing the practice of assigning separate rates only to exporters, all separate rates that {Commerce} will now assign in its NME Investigation will be specific to those producers that supplied the exporter during the period of investigation. Note, however, that one rate is calculated for the exporter and all of the producers which supplied subject merchandise to it during the period of investigation. This practice applies both to mandatory respondents receiving an individually calculated separate rate as well as the pool of non-investigated firms receiving the {weighted average} of the individually calculated rates. This practice is referred to as the application of “combination rates” because such rates apply to specific combinations of exporters and one or more producers. The cash-deposit rate assigned to an exporter will apply only to merchandise both exported by the firm in question and produced by a firm that supplied the exporter during the period of investigation.⁵⁰

⁵⁰ See Policy Bulletin 05.1 at 6 (emphasis added).

Distribution of Copies of the Petitions

In accordance with section 732(b)(3)(A) of the Act and 19 CFR 351.202(f), copies of the public version of the AD Petitions have been provided to the governments of Canada, China, Germany, the Netherlands, Korea, Taiwan, Turkey, and the United Kingdom via ACCESS. To the extent practicable, we will attempt to provide a copy of the public version of the AD Petitions to each exporter named in the AD Petitions, as provided under 19 CFR 351.203(c)(2).

ITC Notification

Commerce will notify the ITC of its initiation, as required by section 732(d) of the Act.

Preliminary Determinations by the ITC

The ITC will preliminarily determine, within 45 days after the date on which the AD Petitions were filed, whether there is a reasonable indication that imports of tin mill products from Canada, China, Germany, the Netherlands, Korea, Taiwan, Turkey, and/or the United Kingdom, are materially injuring, or threatening material injury to, a U.S. industry.⁵¹ A negative ITC determination for any country will result in the investigation being terminated with respect to that country.⁵² Otherwise, these AD investigations will proceed according to statutory and regulatory time limits.

⁵¹ See section 733(a) of the Act.

⁵² Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁵³ and, if the information is submitted to rebut, clarify, or correct factual information already on the record, to provide an explanation identifying the information already on the record that the factual information seeks to rebut, clarify, or correct.⁵⁴ Time limits for the submission of factual information are addressed in 19 CFR 351.301, which provides specific time limits based on the type of factual information being submitted. Interested parties should review the regulations prior to submitting factual information in this investigation.

⁵³ See 19 CFR 351.301(b).

⁵⁴ See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

Neither section 773(e) of the Act, nor 19 CFR 351.301(c)(2)(v), sets a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of a respondent's initial response to section D of the AD questionnaire.

Extensions of Time Limits

Parties may request an extension of time limits before the expiration of a time limit established under 19 CFR 351.301, or as otherwise specified by Commerce. In general, an extension request will be considered untimely if it is filed after the expiration of the time limit established under 19 CFR 351.301. For submissions that are due from multiple parties simultaneously, an extension request will be considered untimely if it is filed after 10:00 a.m. ET on the due date. Under certain circumstances, Commerce may elect to specify a different time limit by which extension requests will be considered untimely for submissions which are due from multiple parties simultaneously. In such a case, Commerce will inform parties in a letter or memorandum of the deadline (including a specified time) by which extension requests must be filed to be considered timely. An extension request must be made in a separate, stand-alone submission; under limited circumstances, Commerce will grant untimely-filed requests for the extension of time limits. Parties should review Commerce's regulations concerning the extension of time limits and the Time Limits Final Rule prior to submitting factual information in these investigations.⁵⁵

⁵⁵ See 19 CFR 351.302; see also, e.g., Extension of Time Limits; Final Rule, 78 FR 57790 (September 20, 2013) (Time Limits Final Rule), available at http://www.gpo.gov/fdsys/pkg/FR-2013-09-20/html/2013-22853.htm.

Certification Requirements

Any party submitting factual information in an AD or CVD proceeding must certify to the accuracy and completeness of that information.⁵⁶ Parties must use the certification formats provided in 19 CFR 351.303(g).⁵⁷ Commerce intends to reject factual submissions if the submitting party does not comply with the applicable certification requirements.

⁵⁶ See section 782(b) of the Act.

⁵⁷ See Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

Notification to Interested Parties

Interested parties must submit applications for disclosure under APO in accordance with 19 CFR 351.305. Parties wishing to participate in these investigations should ensure that they meet the requirements of 19 CFR 351.103(d) (e.g., by filing the required letter of appearance). Note that Commerce has temporarily modified certain of its requirements for serving documents containing business proprietary information, until further notice.⁵⁸

⁵⁸ See Temporary Rule Modifying AD/CVD Service Requirements Due to COVID-19; Extension of Effective Period, 85 FR 41363 (July 10, 2020).

This notice is issued and published pursuant to sections 732(c)(2) and 777(i) of the Act, and 19 CFR 351.203(c).

Dated: February 7, 2023.
Lisa W. Wang,
Assistant Secretary for Enforcement and Compliance.

Appendix

Scope of the Investigations

The products within the scope of these investigations are tin mill flat-rolled products that are coated or plated with tin, chromium, or chromium oxides. Flat-rolled steel products coated with tin are known as tinplate. Flat-rolled steel products coated with chromium or chromium oxides are known as tin-free steel or electrolytic chromium-coated steel. The scope includes all the noted tin mill products regardless of thickness, width, form (in coils or cut sheets), coating type (electrolytic or otherwise), edge (trimmed, untrimmed or further processed, such as scroll cut), coating thickness, surface finish, temper, coating metal (tin, chromium, chromium oxide), reduction (single- or double-reduced), and whether or not coated with a plastic material.

All products that meet the written physical description are within the scope of these investigations unless specifically excluded. The following products are outside and/or specifically excluded from the scope of these investigations:

• Single reduced electrolytically chromium coated steel with a thickness 0.238 mm (85 pound base box) (±10%) or 0.251 mm (90 pound base box) (±10%) or 0.255 mm (±10%) with 770 mm (minimum width) (±1.588 mm) by 900 mm (maximum length if sheared) sheet size or 30.6875 inches (minimum width) (±1/16 inch) and 35.4 inches (maximum length if sheared) sheet size; with type MR or higher (per ASTM) A623 steel chemistry; batch annealed at T2 ½ anneal temper, with a yield strength of 31 to 42 kpsi (214 to 290 Mpa); with a tensile strength of 43 to 58 kpsi (296 to 400 Mpa); with a chrome coating restricted to 32 to 150 mg/m²; with a chrome oxide coating restricted to 6 to 25 mg/m² with a modified 7B ground roll finish or blasted roll finish; with roughness average (Ra) 0.10 to 0.35 micrometers, measured with a stylus instrument with a stylus radius of 2 to 5 microns, a trace length of 5.6 mm, and a cut-off of 0.8 mm, and the measurement traces shall be made perpendicular to the rolling direction; with an oil level of 0.17 to 0.37 grams/base box as type BSO, or 2.5 to 5.5 mg/m² as type DOS, or 3.5 to 6.5 mg/m² as type ATBC; with electrical conductivity of static probe voltage drop of 0.46 volts drop maximum, and with electrical conductivity degradation to 0.70 volts drop maximum after stoving (heating to 400 degrees F for 100 minutes followed by a cool to room temperature).

• Single reduced electrolytically chromium- or tin-coated steel in the gauges of 0.0040 inch nominal, 0.0045 inch nominal, 0.0050 inch nominal, 0.0061 inch nominal (55 pound base box weight), 0.0066 inch nominal (60 pound base box weight), and 0.0072 inch nominal (65 pound base box weight), regardless of width, temper, finish, coating or other properties.

• Single reduced electrolytically chromium coated steel in the gauge of 0.024 inch, with widths of 27.0 inches or 31.5 inches, and with T-1 temper properties.

• Single reduced electrolytically chromium coated steel, with a chemical composition of 0.005% max carbon, 0.030% max silicon, 0.25% max manganese, 0.025% max phosphorous, 0.025% max sulfur 0.070% max aluminum, and the balance iron, with a metallic chromium layer of 70-130 mg/m², with a chromium oxide layer of 5-30 mg/m², with a tensile strength of 260-440 N/mm², with an elongation of 28-48%, with a hardness (HR-30T) of 40-58, with a surface roughness of 0.5-1.5 microns Ra, with magnetic properties of Bm (kg) 10.0 minimum, Br (kg) 8.0 minimum, Hc (Oe) 2.5-3.8, and MU 1400 minimum, as measured with a Riken Denshi DC magnetic characteristic measuring machine, Model BHU-60.

• Bright finish tin-coated sheet with a thickness equal to or exceeding 0.0299 inch, coated to thickness of ¾ pound (0.000045 inch) and 1 pound (0.00006 inch).

• Electrolytically chromium coated steel having ultra flat shape defined as oil can maximum depth of 5/64 inch (2.0 mm) and edge wave maximum of 5/64 inch (2.0 mm) and no wave to penetrate more than 2.0 inches (51.0 mm) from the strip edge and coilset or curling requirements of average maximum of 5/64 inch (2.0 mm) (based on six readings, three across each cut edge of a 24 inches (61 cm) long sample with no single reading exceeding 4/32 inch (3.2 mm) and no more than two readings at 4/32 inch (3.2 mm)) and (for 85 pound base box item only: crossbuckle maximums of 0.001 inch (0.0025 mm) average having no reading above 0.005 inch (0.127 mm)), with a camber maximum of ¼ inch (6.3 mm) per 20 feet (6.1 meters), capable of being bent 120 degrees on a 0.002 inch radius without cracking, with a chromium coating weight of metallic chromium at 100 mg/m² and chromium oxide of 10 mg/m², with a chemistry of 0.13% maximum carbon, 0.60% maximum manganese, 0.15% maximum silicon, 0.20% maximum copper, 0.04% maximum phosphorous, 0.05% maximum sulfur, and 0.20% maximum aluminum, with a surface finish of Stone Finish 7C, with a DOS-A oil at an aim level of 2 mg/square meter, with not more than 15 inclusions/foreign matter in 15 feet (4.6 meters) (with inclusions not to exceed 1/32 inch (0.8 mm) in width and 3/64 inch (1.2 mm) in length), with thickness/temper combinations of either 60 pound base box (0.0066 inch) double reduced CADR8 temper in widths of 25.00 inches, 27.00 inches, 27.50 inches, 28.00 inches, 28.25 inches, 28.50 inches, 29.50 inches, 29.75 inches, 30.25 inches, 31.00 inches, 32.75 inches, 33.75 inches, 35.75 inches, 36.25 inches, 39.00 inches, or 43.00 inches, or 85 pound base box (0.0094 inch) single reduced CAT4 temper in widths of 25.00 inches, 27.00 inches, 28.00 inches, 30.00 inches, 33.00 inches, 33.75 inches, 35.75 inches, 36.25 inches, or 43.00 inches, with width tolerance of ⅛ inch, with a thickness tolerance of 0.0005 inch, with a maximum coil weight of 20,000 pounds (9071.0 kg), with a minimum coil weight of 18,000 pounds (8164.8 kg), with a coil inside diameter of 16 inches (40.64 cm) with a steel core, with a coil maximum outside diameter of 59.5 inches (151.13 cm), with a maximum of one weld (identified with a paper flag) per coil, with a surface free of scratches, holes, and rust.

• Electrolytically tin coated steel having differential coating with 1.00 pound/base box equivalent on the heavy side, with varied coating equivalents in the lighter side (detailed below), with a continuous cast steel chemistry of type MR, with a surface finish of type 7B or 7C, with a surface passivation of 0.7 mg/square foot of chromium applied as a cathodic dichromate treatment, with coil form having restricted oil film weights of 0.3-0.4 grams/base box of type DOS-A oil, coil inside diameter ranging from 15.5 to 17 inches, coil outside diameter of a maximum 64 inches, with a maximum coil weight of 25,000 pounds, and with temper/coating/dimension combinations of: (1) CAT4 temper, 1.00/.050 pound/base box coating, 70 pound/base box (0.0077 inch) thickness, and 33.1875 inch ordered width; or (2) CAT5 temper, 1.00/0.50 pound/base box coating, 75 pound/base box (0.0082 inch) thickness, and 34.9375 inch or 34.1875 inch ordered width; or (3) CAT5 temper, 1.00/0.50 pound/base box coating, 107 pound/base box (0.0118 inch) thickness, and 30.5625 inch or 35.5625 inch ordered width; or (4) CADR8 temper, 1.00/0.50 pound/base box coating, 85 pound/base box (0.0093 inch) thickness, and 35.5625 inch ordered width; or (5) CADR8 temper, 1.00/0.25 pound/base box coating, 60 pound/base box (0.0066 inch) thickness, and 35.9375 inch ordered width; or (6) CADR8 temper, 1.00/0.25 pound/base box coating, 70 pound/base box (0.0077 inch) thickness, and 32.9375 inch, 33.125 inch, or 35.1875 inch ordered width.

• Electrolytically tin coated steel having differential coating with 1.00 pound/base box equivalent on the heavy side, with varied coating equivalents on the lighter side (detailed below), with a continuous cast steel chemistry of type MR, with a surface finish of type 7B or 7C, with a surface passivation of 0.5 mg/square foot of chromium applied as a cathodic dichromate treatment, with ultra flat scroll cut sheet form, with CAT5 temper with 1.00/0.10 pound/base box coating, with a lithograph logo printed in a uniform pattern on the 0.10 pound coating side with a clear protective coat, with both sides waxed to a level of 15-20 mg/216 sq. inch, with ordered dimension combinations of (1) 75 pound/base box (0.0082 inch) thickness and 34.9375 inch x 31.748 inch scroll cut dimensions; or (2) 75 pound/base box (0.0082 inch) thickness and 34.1875 inch x 29.076 inch scroll cut dimensions; or (3) 107 pound/base box (0.0118 inch) thickness and 30.5625 inch x 34.125 inch scroll cut dimension.

• Tin-free steel coated with a metallic chromium layer between 100-200 mg/m² and a chromium oxide layer between 5-30 mg/m²; chemical composition of 0.05% maximum carbon, 0.03% maximum silicon, 0.60% maximum manganese, 0.02% maximum phosphorous, and 0.02% maximum sulfur; magnetic flux density (Br) of 10 kg minimum and a coercive force (Hc) of 3.8 Oe minimum.

• Tin-free steel laminated on one or both sides of the surface with a polyester film, consisting of two layers (an amorphous layer and an outer crystal layer), that contains no more than the indicated amounts of the following environmental hormones: 1 mg/kg BADGE (BisPhenol—A Di-glycidyl Ether), 1 mg/kg BFDGE (BisPhenol—F Di-glycidyl Ether), and 3 mg/kg BPA (BisPhenol—A).

The merchandise subject to these investigations is currently classified in the Harmonized Tariff Schedule of the United States (HTSUS), under HTSUS subheadings 7210.11.0000, 7210.12.0000, 7210.50.0020, 7210.50.0090, 7212.10.0000, and 7212.50.0000 if of non-alloy steel and under HTSUS subheadings 7225.99.0090, and 7226.99.0180 if of alloy steel. Although the subheadings are provided for convenience and customs purposes, the written description of the scope of the investigations is dispositive.

[FR Doc. 2023-03085 Filed 2-13-23; 8:45 am]

BILLING CODE 3510-DS-P